DEPARTMENT OF COMMERCE

National Oceanic and Atmospheric Administration

RIN 0648-XD888

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application submitted by the Northeast Fisheries Science Center contains all of the required information and warrants further consideration.

Regulations under the Magnuson-Stevens Fishery Conservation and Management Act require publication of this notification to provide interested parties the opportunity to comment on Exempted Fishing Permit applications.

DATES: Comments must be received on or before May 28, 2015.

ADDRESSES: You may submit written comments by any of the following methods:

• Email: nmfs.gar.efp@noaa.gov. Include in the subject line “Comments on NEFSC Study Fleet EFP.”

• Mail: John K. Bullard, Regional Administrator, NMFS, Greater Atlantic Regional Fisheries Office, 55 Great Republic Drive, Gloucester, MA 01930. Mark the outside of the envelope “Comments on NEFSC Study Fleet EFP.”

FOR FURTHER INFORMATION CONTACT: Liz Sullivan, Fishery Management Specialist, 978-282-8493, Liz.Sullivan@noaa.gov.

SUPPLEMENTARY INFORMATION: The Northeast Fisheries Science Center (NEFSC) submitted a complete application for an Exempted Fishing Permit (EFP) on March 18, 2015, to enable data collection activities that the regulations on commercial fishing would otherwise restrict. The EFP would exempt 37 federally permitted commercial fishing vessels from the regulations detailed below while participating in the Study Fleet Program and operating under projects managed by the NEFSC. The EFP would exempt participating vessels from minimum fish size restrictions; fish possession limits; prohibited fish species, not including species protected under the Endangered Species Act; and gear-specific fish possession restrictions for the purpose of at-sea sampling and, in limited situations for research purposes only, to retain and land fish.

The NEFSC Study Fleet Program was established in 2002 to more fully characterize commercial fishing operations and to leverage sampling opportunities to augment NMFS data collection programs. Participating vessels are contracted by NEFSC to collect tow-by-tow catch and environmental data, and to fulfill specific biological sampling needs identified by NEFSC. To collect these data, the NEFSC Study Fleet Program has obtained an EFP to secure the necessary waivers needed by the vessels to obtain fish that would otherwise be prohibited by regulations.

Crew trained by the NEFSC Study Fleet Program in methods that are consistent with the current NEFSC observer protocol, while under fishing operations, would sort, weigh, and measure fish that are to be discarded. An exemption from minimum fish size restrictions; fish possession limits; prohibited fish species, not including species protected under the Endangered Species Act; and gear-specific fish possession restrictions for at-sea sampling is required because some discarded species would be on deck slightly longer than under normal sorting procedures.

Participating vessels would also be authorized to retain and land, in limited situations for research purposes only, fish that do not comply with fishing regulations. The vessels would be authorized to retain specific amounts of particular species in whole or round weight condition, in marked totes, which would be delivered to Study Fleet Program technicians. NEFSC would require participating vessels to obtain written approval from the NEFSC Study Fleet Program prior to landing any fish to ensure that the landed fish do not exceed any of the Study Fleet Program's collection needs. None of the landed biological samples from these trips would be sold for commercial use or used for any other purpose other than scientific research.

The table below details the regulations from which the participating vessels would be exempt when retaining and landing fish for research purposes. The participating vessels would be required to comply with all other applicable requirements and restrictions specified at 50 CFR part 648, unless specifically exempted in this EFP. For vessels on a sector trip, all catch of Northeast multispecies stocks allocated to sectors would be deducted from the sector's Annual Catch Entitlement (ACE). Once a sector's ACE for a stock has been reached, vessels would no longer be allowed to fish in that stock area, unless they acquired additional ACE for the limiting stock. For non-sector vessels, all catch of Northeast multispecies stocks would be counted toward the appropriate quotas. Non-sector vessels would still be subject to applicable trimester total allowable catch (TAC) accountability measures, which state that when 90 percent of the trimester TAC for a stock is projected to be caught, the area where that stock is predominantly caught will close to vessels fishing with a specific gear type for the rest of that trimester.

NEFSC Study Fleet Program EFP
No. of Vessels | 37
Exempted regulations in 50 CFR part 648 | Size limits:
| § 648.83 NE multispecies minimum size.
| § 648.93 Monkfish minimum fish size.
| § 648.104 Summer flounder minimum fish size.
| § 648.147 Black sea bass minimum fish size.
| Possession restrictions:
| § 648.86(a) Haddock.
| § 648.86(b) Atlantic cod.
| § 648.86(g) Yellowtail flounder.
| § 648.86(j) Georges Bank winter flounder.
| § 648.86(l) Zero retention of Atlantic wolffish.
| § 648.86(o) Possession limits implemented by RA.
| § 648.94 Monkfish possession limit.
| § 648.106 Summer flounder possession restrictions.
| § 648.322 Skate possession and landing restrictions.
| § 648.145 Black sea bass possession limits.
| § 648.235 Spiny dogfish possession and landing restrictions.

NEFSC Study Fleet Program's Sublegal Biological Sampling Needs

As described above, biological samples would only be landed and collected by the Study Fleet Program after a formal request has been issued in writing by the Study Fleet Program. The following are the Study Fleet Program's sampling needs for retaining sublegal fish.

Windowpane flounder—whole fish would be retained for age and growth work to support 2015 windowpane stock assessment. Otoliths and fish length will be collected to validate ages using marginal increment analysis. Windowpane flounder retained would not exceed 40 fish per month from all stock areas combined (Gulf of Maine and Georges Bank stock) or 480 fish total for all trips. The maximum weight on any trip would not exceed 30 lb (13.6 kg), and total weight would not exceed 360 lb (163.3 kg) for all trips combined.

Atlantic wolffish—whole fish would be retained for maturity, fecundity, and life history research. Atlantic wolffish retained would not exceed 40 fish per month or 480 fish total for all trips. The maximum weight on any trip would not exceed 160 lb (72.6 kg), and total weight would not exceed 3,500 lb (1587.6 kg) for all trips combined.

Cusk—whole fish would be retained or specimen sampled at sea by a Study Fleet scientist for maturity, fecundity, and life history research. Cusk retained would not exceed 40 fish per month or 480 fish total for all trips. The maximum weight on any trip would not exceed 100 lb (45.4 kg), and total weight would not exceed 1,440 lb (653.2 kg) for all trips combined.

Atlantic halibut—specimen would be sampled at sea by a Study Fleet scientist for age, growth, maturity, fecundity, and diet research. Atlantic halibut retained would not exceed 20 fish per month or 240 fish total for all trips. The maximum weight on any trip would not exceed 200 lb (90.7 kg), and total weight would not exceed 5,000 lb (2268.0 kg) for all trips combined.

Monkfish—whole fish would be retained for maturity and fecundity research. Monkfish retained would not exceed 10 fish per trip, or 120 fish total for all trips. The maximum weight on any trip would not exceed 100 lb (45.4 kg), and total weight would not exceed 1,200 lb (544.3 kg) for all trips combined.

Atlantic cod—potential maturity, fecundity, bioelectrical impedance analysis (BIA), food habits, and genetic research. Whole fish retained would not exceed 200 fish per month from each of the three stock areas (GOM, GB, SNE/MA), or 1,200 fish total from each stock area for all trips. The maximum weight on any trip would not exceed 300 lb (136.1 kg), and total weight would not exceed 8,500 lb (3855.5 kg) for all trips combined.

Barndoor Skate—whole and, in some cases, live skates would be retained for age and growth research and species confirmation. The barndoor skates retained would not exceed 20 fish per 3-month period, or 80 skates total for all trips. The maximum weight on any trip would not exceed 75 lb (34.0 kg), and total weight would not exceed 300 lb (136.1 kg) for all trips combined.

Thorny Skate—whole and, in some cases, live skates would be retained for age and growth research and species confirmation. Thorny skates retained would not exceed 20 fish per 3-month period, or 80 skates total for all trips. The maximum weight on any trip would not exceed 75 lb (34.0 kg), and total weight would not exceed 300 lb (136.1 kg) for all trips combined.

Black Sea Bass—whole fish would be retained to support of an ongoing study at the NEFSC to evaluate BIA to measure fish energy density and reproductive potential for stock assessment. Black sea bass retained would not exceed 75 fish per quarter, or 300 black sea bass total for all trips. The maximum weight on any trip would not exceed 250 lb (113.4 kg), and total weight would not exceed 1,000 lb (453.6 kg) for all trips combined.

If approved, the applicant may request minor modifications and extensions to the EFP throughout the year. EFP modifications and extensions may be granted without further notice if they are deemed essential to facilitate completion of the proposed research and have minimal impact that do not change the scope or impact of the initially approved EFP request. Any fishing activity conducted outside the scope of the exempted fishing activity would be prohibited.

Authority: 16 U.S.C. 1801 et seq.

Dated: May 6, 2015.
Emily H. Menashes,
Acting Director, Office of Sustainable Fisheries, National Marine Fisheries Service.

[FR Doc. 2015-11470 Filed 5-12-15; 8:45 am]

BILLING CODE 3510-22-P